DEPARTMENT OF COMMERCE

National Oceanic and Atmospheric Administration

RIN 0648-XG123

South Atlantic Fishery Management Council; Public Meetings

AGENCY: National Marine Fisheries Service (NMFS), National Oceanic and Atmospheric Administration (NOAA), Commerce.

ACTION: Notice of public scoping meetings.

SUMMARY: The South Atlantic Fishery Management Council (Council) will hold two public scoping meetings via webinar pertaining to Amendment 42 to the Snapper Grouper Fishery Management Plan (FMP) of the South Atlantic Region. The amendment addresses modifications to sea turtle release gear requirements for the snapper grouper fishery.

DATES: The scoping meetings will be held via webinar on April 23 and April 24, 2018.

ADDRESSES: Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The scoping meetings will be conducted via webinar accessible via the internet from the Council's website at www.safmc.net. The scoping meetings will begin at 6 p.m. Registration for the webinars is required. Registration information will be posted on the Council's website at www.safmc.net as it becomes available.

Amendment 42 to the Snapper Grouper Fishery Management Plan

The draft amendment addresses changes to sea turtle release gear types for the commercial and for-hire components of the snapper grouper fishery. The National Marine Fisheries Service's Release Protocols for protected species were originally published in 2004, with updates in 2008 and 2010. A new update is ready for publication. In the pending update, three additional sea turtle release gears, used for handling and releasing incidentally caught sea turtles, have been approved by the Southeast Fisheries Science Center (SEFSC). The new gear requires less space on vessels while still providing the necessary function. For fishermen operating in the snapper grouper fishery to utilize the newly approved gears, they need to be listed as acceptable gear in the Snapper Grouper FMP and made a requirement in the regulations. The amendment would also revise the snapper grouper framework procedure to include modifications to protected resources release gear requirements and handling procedures after they are approved by the SEFSC to allow for more timely modifications to these regulations.

During the scoping meetings, Council staff will present an overview of the amendment and will be available for informal discussions and to answer questions via webinar. Members of the public will have an opportunity to go on record to record their comments for consideration by the Council.

Special Accommodations

These meetings are physically accessible to people with disabilities. Requests for auxiliary aids should be directed to the council office (see ADDRESSES) 3 days prior to the meeting.

Note: The times and sequence specified in this agenda are subject to change.

Authority: 16 U.S.C. 1801 et seq.

Dated: March 27, 2018.
Jeffrey N. Lonergan,
Acting Deputy Director, Office of Sustainable Fisheries, National Marine Fisheries Service.

[FR Doc. 2018-06483 Filed 3-29-18; 8:45 am]

BILLING CODE 3510-22-P